POSTAL SERVICE

Privacy Act of 1974; System of Records

AGENCY: Postal Service™.

ACTION: Notice of modification to existing system of records.

SUMMARY: The United States Postal Service® (Postal Service) is proposing to modify one Customer Privacy Act System of Records. This modification is being made to enable the Postal Service to counter efforts to misuse the Postal Service's change-of-address (COA) process by submitting multiple on-line, COA requests for the same delivery address.

DATES: These revisions will become effective without further notice on September 22, 2014 unless comments received on or before that date result in a contrary determination.

ADDRESSES: Comments may be mailed or delivered to the Privacy and Records Office, United States Postal Service, 475 L'Enfant Plaza SW., Room 9431, Washington, DC 20260-1101. Copies of all written comments will be available at this address for public inspection and photocopying between 8 a.m. and 4 p.m., Monday through Friday.

FOR FURTHER INFORMATION CONTACT: Matthew J. Connolly, Chief Privacy Officer, Privacy and Records Office, 202-268-8582 or privacy@usps.gov.

SUPPLEMENTARY INFORMATION: This notice is in accordance with the Privacy Act requirement that agencies publish their amended systems of records in the Federal Register when there is a revision, change, or addition. The Postal Service™ has reviewed this system of records and has determined that this Customer Privacy Act System of Records should be revised to modify the following entry: purpose(s).

I. Background

The Postal Service operates an online tool that permits individuals and businesses to submit change-of-address requests quickly, easily and securely. In recent months, the Postal Service has become aware of a practice involving the submission of multiple, repetitive COA requests for a single address. This practice requires the Postal Service to take the time, and engage in the expense of reviewing, evaluating, and addressing the submission of those requests.

II. Rationale for Changes to USPS Privacy Act Systems of Records

The System of Records 800.000 Address Change, Mail Forwarding, and Related Services is being modified to permit the Postal Service to use COA data to identify and address the practice of submitting multiple COA requests for a single address in a practical, cost-effective way, while preserving its ability to protect customer data and to process legitimate requests promptly.

III. Description of Changes to Systems of Records

The Postal Service is modifying one system of records listed below. Pursuant to 5 U.S.C. 552a(e)(11), interested persons are invited to submit written data, views, or arguments on this proposal. A report of the proposed modifications has been sent to Congress and to the Office of Management and Budget for their evaluation. The Postal Service does not expect this amended notice to have any adverse effect on individual privacy rights. The affected systems are as follows:

USPS 800.000

SYSTEM NAME:

Address Change, Mail Forwarding, and Related Services

Accordingly, for the reasons stated, the Postal Service proposes changes in the existing systems of records as follows:

USPS 800.000

SYSTEM NAME:

Address Change, Mail Forwarding, and Related Services

PURPOSE(S)

* * * * *

[ADD TEXT]

3. To prevent abuse of the change-of-address process.

* * * * *

Stanley F. Mires,
Attorney, Federal Requirements.

[FR Doc. 2014-19813 Filed 8-20-14; 8:45 am]

BILLING CODE 7710-12-P